DEPARTMENT OF TRANSPORTATION

Federal Aviation Administration

Agency Information Collection Activities: Requests for Comments; Clearance of Renewed Approval of Information Collection: ATC Authorizations in Controlled Airspace Under Part 107

AGENCY: Federal Aviation Administration (FAA), DOT.

ACTION: Notice and request for comments.

SUMMARY: In accordance with the Paperwork Reduction Act of 1995, FAA invites public comments about our intention to request the Office of Management and Budget (OMB) approval to renew a previously approved information collection. The FAA has established the ATC Authorization in Controlled Airspace under Part 107 portal to allow a remote pilot in command to request FAA authorization for a small unmanned aircraft to operate in Class B, C, D, and the lateral boundaries of the surface area of Class E airspace designated for an airport.

DATES: Written comments should be submitted by November 25, 2016.

ADDRESSES: Send comments to the FAA at the following address: Ronda Thompson, Room 441, Federal Aviation Administration, ASP-110, 950 L'Enfant Plaza SW., Washington, DC 20024.

FOR FURTHER INFORMATION CONTACT: Ronda Thompson by email at: Ronda.Thompson@faa.gov.

SUPPLEMENTARY INFORMATION: Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0768.

Title: ATC Authorizations in Controlled Airspace under Part 107.

Form Numbers: There are no FAA forms associated with this collection.

Type of Review: Renewal of an information collection.

Background: The Operation and Certification of Small Unmanned Aircraft Systems final rule establishes established the ATC Authorization in Controlled Airspace under Part 107 portal to allow a remote pilot in command to request FAA authorization for a small unmanned aircraft to operate in Class B, C, D, and the lateral boundaries of the surface area of Class E airspace designated for an airport. The remote pilot in command will be required to submit information electronically to the FAA regarding the operation to be conducted. Information will include contact information for the remote pilot in command, the date and time of the operation, as well as its anticipated duration, and the airspace for which the request is submitted. If the remote pilot in command wishes to conduct the same operation on a number of dates/times, the request will permit multiple dates/times to be listed to reduce the number of submissions required.

Respondents: Approximately 10.

Frequency: On occasion.

Estimated Average Burden per Response: .5 hour.

Estimated Total Annual Burden: 5 hours.

Issued in Washington, DC, on September 14, 2016.
Ronda Thompson,
FAA Information Collection Clearance Officer, Performance, Policy, and Records Management Branch, ASP-110.

[FR Doc. 2016-23118 Filed 9-23-16; 8:45 am]

BILLING CODE 4910-13-P